Title 3—

The President

Proclamation 10055 of June 30, 2020

Pledge to America's Workers Month, 2020

By the President of the United States of America

A Proclamation

The ongoing effects of the coronavirus pandemic on our Nation's economy and workforce have been unprecedented. Businesses of all sizes have been forced to close, downsize, or restructure; countless employees have transitioned to working remotely; and tens of millions of Americans have found themselves newly unemployed. Despite the hardship caused by the pandemic, it has not encumbered the American spirit or the unyielding resolve of our Nation's workers. The United States economy added 2.5 million jobs in May, rebounding with historic strength and beginning the transition back to strong economic growth. During Pledge to America's Workers Month, we celebrate the resilience and unlimited potential of America's workers and industries; honor the State and private-sector organizations that have pledged to train, educate, and reskill American workers; and reaffirm our unparalleled support for our workforce as we emerge from the grip of this crisis.

In July 2018, I established the President's National Council for the American Worker in order to develop and implement a national strategy to reshape the education and job training landscape to better meet the needs of American students, workers, and businesses. In coordination with the Council, my Administration has called on States, businesses, and trade groups to sign the Pledge to America's Workers, by which they commit to expanding programs that educate, train, and reskill workers of all ages. A strong, bipartisan majority of our Nation's Governors and over 430 companies, trade associations, and unions have signed the Pledge, promising to provide education and training opportunities for 16 million American students and workers over the next 5 years.

I also established the American Workforce Policy Advisory Board to glean expertise and input from a broad spectrum of leaders in the public, private, education, and not-for-profit sectors. At the time of its creation, our country was experiencing a historic economic boom, record-low unemployment rates, and soaring consumer confidence. The rapid changes brought on by the coronavirus pandemic have further revealed the critical need to invest in our workers to get our Nation back to work. The Board is focused on numerous challenges, and recently issued a National Workforce Recovery Call-to-Action to spur economic recovery by expediting American workers' return to employment and upward mobility through investment in career pathways and implementation of skill-based hiring practices. The Call-to-Action also emphasizes removing obstacles to modernizing workforce education and building the technology infrastructure needed for the future of work.

My Administration is committed to helping every citizen find the path to economic success and professional fulfillment that works for them. It is critical that we explore and promote non-traditional pathways to family-sustaining careers, including through enhancing data transparency that can help match workers with available jobs; modernizing candidate recruitment, hiring, and training practices; and advancing lifelong learning opportunities. By broadening our vision for America's workforce and igniting ingenuity and innovation, we can bring opportunity and prosperity to all Americans.

Although the coronavirus pandemic has tested the mettle of our Nation's workers, our country has steeled its resolve to overcome and persevere. The same resourcefulness and determination with which we have confronted this crisis will be the catalyst for our economic resurgence. American workers are the engine of our country's future prosperity.

NOW, THEREFORE, I, DONALD J. TRUMP, President of the United States of America, by virtue of the authority vested in me by the Constitution and the laws of the United States, do hereby proclaim July 2020 as Pledge to America's Workers Month.

IN WITNESS WHEREOF, I have hereunto set my hand this thirtieth day of June, in the year of our Lord two thousand twenty, and of the Independence of the United States of America the two hundred and forty-fourth.

[FR Doc. 2020-14598

Filed 7-2-20; 8:45 am]

Billing code 3295-F0-P